DEPARTMENT OF AGRICULTURE

Forest Service

Notice of Resource Advisory Committee Meeting

AGENCY: Rouge/Umpqua Resource Advisory Committee, Roseburg, OR, Forest Services, USDA.

ACTION: Notice of meeting.

SUMMARY: Pursuant to the authorities in the Federal Advisory Committees Act (Pub. L. 92-463) and under the Secure Rural Schools and Community Self-Determination Act of 2000 (Pub. L. 106-393) the Rogue/Umpqua Resources Advisory Committee will meet Wednesday, March 31, 2004, in Roseburg, Oregon, for a business meeting. The meetings are open to the public.

SUPPLEMENTARY INFORMATION: The business meeting on March 31, 2004, begins at 1 p.m. at the Roseburg Bureau of Land Management Office, 777 NW. Garden Valley Blvd, Roseburg, OR. Agenda topics will include: (1) Review and adopt previous meetings minutes, (2) review and recommend projects to be funded to replace a cancelled 2004 project, and (3) public forum at 1:45 p.m.

FOR FURTHER INFORMATION CONTACT: Designated Federal Official Jim Caplan, Umpqua National Forest; 2900 NW. Stewart Parkway, Roseburg, Oregon 97470; (541) 580-0839.

Dated: March 1, 2004.
John Sloan,
Acting Forest Supervisor, Umpqua National Forest.

[FR Doc. 04-5071 Filed 3-5-04; 8:45 am]

BILLING CODE 3410-11-M